DEPARTMENT OF TRANSPORTATION

Surface Transportation Board

[Docket No. FD 35661]

Grand Trunk Western Railroad Company—Acquisition of Operating Easement—CSX Transportation, Inc.

AGENCY: Surface Transportation Board, DOT.

ACTION: Notice of exemption.

SUMMARY: The Board is granting an exemption under 49 U.S.C. 10502 from the prior approval requirements at 49 U.S.C. 11323-25 for Grand Trunk Western Railroad Company (GTW), an indirect, wholly owned subsidiary of Canadian National Railway Company, to acquire from CSX Transportation, Inc. (CSXT) an exclusive, perpetual, non-assignable railroad operating easement over:

1. The location of the railroad at-grade crossing, at or near Leewood, between CSXT at milepost 00F Z 371.26 and Illinois Central Railroad Company (IC) at milepost 387.85, including the underlying right-of-way extending 50 feet on either side of the centerline of the CSXT tracks to IC's existing right-of-way and 75 feet on either side of the centerline of the IC tracks, together with appurtenances (other than the CSXT tracks outside the crossing) and related interlocking (Leewood Crossing); and

2. The location of the railroad at-grade crossing, at or near Aulon, between CSXT at milepost 0NI 224.05 and IC at milepost 390.0, including the underlying right-of-way extending approximately 50 feet on either side of the centerline of the CSXT track to IC's existing right-of-way and 50 feet on either side of the centerline of the IC tracks, together with appurtenances (other than the CSXT tracks outside the crossing) and related interlocking (Aulon Crossing).

This acquisition is related to the Board's February 8, 2013 decision in this docket granting GTW's petition for exemption under 49 U.S.C. 10502 from the prior approval requirements at 49 U.S.C. 11323-25 to acquire from CSXT an operating easement over approximately 2.1 miles of CSXT's Memphis Terminal Subdivision between Leewood, Tenn., and Aulon, Tenn. After the Board served that decision, CSXT and GTW realized that they had unintentionally failed to seek authority permitting the operating easement to span the Aulon and Leewood Crossings. By a decision served on May 9, 2013, the Board is granting GTW's petition for supplemental authority and allowing it to expand its operating easement over these crossings.

DATES: This exemption will be effective on June 8, 2013. Petitions to stay must be filed by May 20, 2013. Petitions to reopen must be filed by May 29, 2013.

ADDRESSES: Send an original and 10 copies of all filings referring to Docket No. FD 35661 to: Surface Transportation Board, 395 E Street SW., Washington, DC 20423-0001. In addition, send one copy of pleadings to David A. Hirsch, Harkins Cunningham LLP, 1700 K Street NW., Suite 400, Washington, DC 20006-3804.

FOR FURTHER INFORMATION CONTACT: Scott M. Zimmerman, (202) 245-0386. Assistance for the hearing impaired is available through the Federal Information Relay Service (FIRS) at (800) 877-8339.

SUPPLEMENTARY INFORMATION: Additional information is contained in the Board's decision served May 9, 2013, which is available on our Web site at www.stb.dot.gov.

Decided: May 7, 2013.
By the Board, Chairman Elliott, Vice Chairman Begeman, and Commissioner Mulvey.
Derrick A. Gardner,
Clearance Clerk.

[FR Doc. 2013-11408 Filed 5-13-13; 8:45 am]

BILLING CODE 4915-01-P